GENERAL SERVICES ADMINISTRATION

Office of Communications

Cancellation of a Standard Form by the Office of Personnel Management (OPM)

AGENCY: Office of Communications, GSA.

ACTION: Notice.

SUMMARY: The Office of Personnel Management (OPM) cancelled SF 71, Application for Leave since they no longer prescribe any standard data elements for requesting and approving leave. Each agency needs to set their own policy on how this process is handled. OPM developed their own form which they are happy to share with you but is NOT for mandatory use. You can obtain a copy of this form from the internet (Address: http://www.opm.gov/forms).

FOR FURTHER INFORMATION CONTACT: Ms. Barbara Williams, General Services Administration, (202) 501-0581.

DATES: Effective August 29, 2001.

Dated: August 21, 2001.
Barbara M. Williams,
Deputy Standard and Optional Forms Management Officer, General Services Administration.

[FR Doc. 01-21806 Filed 8-28-01; 8:45 am]

BILLING CODE 6820-34-M